DEPARTMENT OF ENERGY

Federal Energy Regulatory Commission

[Docket No. EL21-39-000]

Neptune Regional Transmission System Long Island Power Authority v. PJM Interconnection, L.L.C.; Notice Establishing Paper Hearing Procedures

On December 31, 2020, Neptune Regional Transmission System, LLC (Neptune) and Long Island Power Authority (LIPA) (together, Neptune/LIPA), pursuant to sections 206 and 306 of the Federal Power Act (FPA),¹ filed a complaint alleging the assignment of costs pursuant to the provisions of the regional cost allocation method included in the PJM Interconnection, L.L.C. (PJM) Open Access Transmission Tariff (Tariff) results in unjust and unreasonable rates. In an order issued on June 25, 2021, the Commission found that Neptune/LIPA has raised questions of material fact about the 1% de minimis threshold and netting provisions of PJM's solution-based DFAX method and whether the rates may have become unjust and unreasonable.² The Commission found that the record would benefit from further information and established paper hearing procedures to develop a further record.

¹ 16 U.S.C. 824e and 825e.

² Neptune Reg'l Transmission Sys., LLC v. PJM Interconnection, L.L.C., 175 FERC ¶ 61,247, at P 29 (2021).

Any interested persons who currently are not parties to Docket No. EL21-39-000 may submit notices of intervention or motions to intervene, as appropriate, within 21 days of the date of the Commission's June 25, 2021 order establishing paper hearing procedures. The briefing schedule described in Ordering Paragraph (D) of the June 25, 2021 order will apply to such persons.

Dated: June 28, 2021.
Debbie-Anne A. Reese,
Deputy Secretary.

[FR Doc. 2021-14240 Filed 7-1-21; 8:45 am]

BILLING CODE 6717-01-P